SURFACE TRANSPORTATION BOARD

[Docket No. FD 36231]

Iowa and Middletown Railway LLC—Lease and Operation Exemption—American Ordinance LLC, Owner's Representative for U.S. Army Joint Munitions Command

On October 12, 2018, Iowa & Middletown Railway LLC (I&M), a noncarrier, filed a verified notice of exemption under 49 CFR 1150.31 to lease from American Ordnance LLC (AO), as owner's representative for the U.S. Army Joint Munitions Command (JMC), and operate, approximately four miles of track (the Line) ¹ within the Iowa Army Ammunition Plant (Plant).² The Line is located in Des Moines County, Iowa, on a portion of the Plant that JMC no longer needs and will be repurposed as a business park.

¹ I&M states that the lease also includes a number of other tracks that will be operated by I&M as yard and industrial tracks for which no Board authority is required.

² The Plant is owned by JMC. According to I&M, AO and JMC are parties to an Operations and Maintenance Agreement that permits AO to grant rights to use certain property within the Plant, including the railroad tracks.

Notice of I&M's lease and operation exemption was served and published on October 26, 2018 (83 FR 54162), but the effective date of the exemption was held in abeyance pending review of a related verified notice of exemption filed on October 23, 2018, in Eyal Shapira—Continuance in Control Exemption—Iowa & Middletown Railway, Docket No. FD 36232. In that proceeding, Eyal Shapira, President of I&M, seeks to continue in control of I&M and Wolf Creek Railroad LLC ³ upon both entities becoming carriers. Notice of the continuance-in-control exemption in Docket No. FD 36232 will be served and published in the Federal Register on November 8, 2018, and that exemption will become effective on November 22, 2018. Therefore, I&M's exemption in Docket No. 36231 likewise will become effective on November 22, 2018. Petitions for stay will be due by November 15, 2018.

³ See Wolf Creek R.R.—Lease & Operation Exemption—American Ordnance LLC, FD 23236 (STB served Nov. 8, 2018).

It is ordered:

1. I&M's exemption will become effective on November 22, 2018. Petitions for stay of the exemption are due by November 15, 2018.

2. This decision is effective on its date of service.

Decided: November 2, 2018.
By the Board, Scott M. Zimmerman, Acting Director, Office of Proceedings.
Jeffrey Herzig,
Clearance Clerk.

[FR Doc. 2018-24426 Filed 11-7-18; 8:45 am]

BILLING CODE 4915-01-P